ENVIRONMENTAL PROTECTION AGENCY

[EPA-HQ-OPP-2006-0955; FRL-8800-2]

Rodenticides; Product Cancellation Order; Correction

AGENCY: Environmental Protection Agency (EPA).

ACTION: Notice; correction and clarification.

SUMMARY: EPA issued a rodenticides product Cancellation Order in the Federal Register of September 30, 2009. This document is being issued to correct clerical errors and to clarify the existing stocks provisions.

DATES: The correction is effective date of publication in the Federal Register.

FOR FURTHER INFORMATION CONTACT: Rusty Wasem, Pesticide Re-evaluation Division (7508P), Office of Pesticide Programs, Environmental Protection Agency, 1200 Pennsylvania Ave., NW., Washington, DC 20460-0001; telephone number: 703-305-6979; e-mail address: wasem.russell@epa.gov.

SUPPLEMENTARY INFORMATION:

I. General Information

A. Does this Action Apply to Me?

The Agency included in the notice a list of those who may be potentially affected by this action. If you have questions regarding the applicability of this action to a particular entity, consult the person listed under FOR FURTHER INFORMATION CONTACT.

B. How Can I Get Copies of this Document and Other Related Information?

EPA has established a docket for this action under docket identification (ID) number EPA-HQ-OPP-2006-0955. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. What Does this Correction Do?

In the Federal Register of September 30, 2009 EPA issued a product cancellation order canceling certain rodenticide registrations voluntarily requested by the registrants and accepted by the Agency. Subsequent to the September 30, 2009 publication date, it was determined that some of the products which were listed in Table 1—Rodenticide Product Cancellations, had been cancelled previously. This notice corrects the September 30, 2009 notice and clarifies the provisions for disposition of existing stocks.

FR Doc.E9-23452 published in the Federal Register of September 30, 2009 (74 FR 50194) (FRL-8438-6) is corrected as follows:

1. The DATES caption on page 50194, is corrected to read:

DATES: The products listed in Table 1 are cancelled on June 4, 2011.

2. On page 50195, table 1 is corrected to read as follows:

Table 1.—Rodenticide Product Cancellations
EPA Registration Number | Product Name
Cholecalciferol (PC Code 202901)
12455-57 | Quintox Mouse Seed
Bromadiolone (PC Code 112001)
12455-68 | Contrac Mouse Bait Station
12455-104 | Contract Mouse Control Kit
Bromethalin (PC Code 112802)
47629-10 | Bromethalin Manufacturing Concentrate
Diphacinone (PC Code 067701)
3487-26 | Eagles-14 Diphacinone Rat Bait
11885-12 | Master Mix Blue Death-D Rat & Mouse Bait
11885-15 | Master Mix Blue Death-D Rat & Mouse Hide-A-Pack
Warfarin (PC Code 086002)
3487-19 | Eagles-7 Rat Bait
62577-7 | Echols Mouse & Rat Pellets
72500-7 | Kaput Mouse Blocks

III. Products Previously Cancelled

The registrations listed in Table 2 below were inadvertently included in Table 1 of the notice published on September 30, 2009, for which this notice corrects. The products listed in Table 2 below were canceled previously for non-payment of maintenance fees and do not have an effective cancellation date of June 4, 2011. Please note that regardless of the existing stocks provision for products listed in Table 2 below, registrants of these products are not permitted to release these products into the channels of trade after June 4, 2011.

Table 2.—Products Previously Cancelled
EPA Registration Number | Product Name | Date of Cancellation
Cholecalciferol (PC Code 202901)
3240-28 | Rampage Mouse Seed | July 16, 2009
3240-42 | Rampage Rat & Mouse Bait | July 16, 2009
Bromadiolone (PC Code 112001)
12455-103 | Contrac Bait Trays | September 15, 2009
Bromethalin (PC Code 112802)
12455-100 | Fastrac Mouse Seed Place Pac | September 15, 2009
Diphacinone (PC Code 067701)
12455-67 | Ditrac Mouse Bait Station | September 15, 2009
Diphacinone, sodium salt (PC Code 067705)
3240-17 | Motomco Water Soluble Diphacinone Rodenticide Concentrate Kills Rats And Mice | July 16, 2009
Warfarin (PC Code 086002)
5887-51 | Black Leaf Warf Pellets | July 16, 2009
5887-98 | Black Leaf Warf Pellets Mouse Killer | July 16, 2009
12455-15 | Warfarin Rat And Mouse Bait | September 15, 2009
Warfarin, sodium salt (PC Code 086003)
12455-22 | Liqua-Tox Liquid Concentrate | September 15, 2009
Zinc Phosphide (PC Code 088601)
12455-59 | ZP Rodent Bait Place Pac | September 15, 2009
12455-85 | Mole And Gopher Bait | September 15, 2009

List of Subjects

Environmental protection, Pesticides and pests.

Dated: November 17, 2009.
Richard P. Keigwin, Jr.
Director, Pesticide Re-evaluation Division, Office of Pesticide Programs.

[FR Doc. E9-28168 Filed 11-24-09; 8:45 am]

BILLING CODE 6560-50-S